AGENCY FOR INTERNATIONAL DEVELOPMENT

Notice of Public Information Collection Requirements Submitted to OMB for Review

SUMMARY: U.S. Agency for International Development (USAID) has submitted the following information collection to OMB for review and clearance under the Paperwork Reduction Act of 1995. Public Law 104-13. Comments regarding this information collection are best assured of having their full effect if received within 30 days of this notification. Comments should be sent via e-mail to David_Rostker@omb.eop.gov or fax to 202-395-7285. Copies of submission may be obtained by calling (202) 712-1365.

SUPPLEMENTARY INFORMATION:

OMB Number: OMB 0412-0554.

Form Number: None.

Title: Training Results and Information Network (TraiNet).

Type of Submission: Information Collection Revision.

Purpose: The purpose of this information collection is program evaluation, general purpose statistics, program planning and management, and regulatory or compliance.

Annual Reporting Burden:

Respondents: 350.

Total annual responses: 11,261.

Total annual hours requested: 1,914 hours.

Dated: February 6, 2008.
Joanne Paskar,
Chief, Information and Records Division, Office of Administrative Services, Bureau for Management.

[FR Doc. 08-646 Filed 2-13-08; 8:45 am]

BILLING CODE 6116-01-M